DEPARTMENT OF ENERGY

Education Workforce Development Program

AGENCY: Golden Field Office, U.S. Department of Energy.

ACTION: Notice of issuance of program solicitation.

SUMMARY: The National Renewable Energy Laboratory (NREL), a DOE-funded laboratory in Golden, Colorado, conducts an annual education program for the workforce development of college students and teachers under the sponsorship of the DOE Office of Science. Each summer, a group of selected students and teachers are brought to the NREL site and assigned to work with an experienced NREL researcher in one of many renewable energy research projects underway. Under this Solicitation, DOE is seeking Applications for a college or university in the Denver, Colorado, metropolitan area to act as a fiscal agent on behalf of the workforce development activities conducted by NREL.

It is anticipated that one financial assistance award will be made under this Solicitation. The award will be a Cooperative Agreement, with a five-year Project Period. Each of the five years will be separately funded by DOE, with the funding during any period dependent on the availability of congressional appropriations. For the first year, it is anticipated that the DOE funding provided to the fiscal agent will be $180,000.

DATES: The program solicitation is anticipated to be posted on the Industry Interactive Procurement System (IIPS) Web site in mid-March, 2003. Applications will be due in early April 2003.

ADDRESSES: To obtain a copy of the solicitation, interested parties should access the DOE Golden Field Office home page at http://www.golden.doe.gov/businessopportunities.html, and click on the “Solicitations” button. The Golden Home Page will provide a link to the Solicitation in the IIPS Web site and provide instructions on using IIPS. The Solicitation can also be obtained directly through IIPS at http://e-center.doe.gov by browsing opportunities by Contract Activity, for those solicitations issued by the Golden Field Office. DOE will not issue paper copies of the solicitation.

IIPS provides the medium for disseminating solicitations, receiving financial assistance applications, and evaluating the applications in a paperless environment. For questions regarding the operation of IIPS, contact the IIPS Help Desk at IIPS_HelpDesk@e-center.doe.gov or at (800) 683-0751.

FOR FURTHER INFORMATION CONTACT: Steve Scott, Contracting Officer, DOE Golden Field Office, via facsimile at (303) 275-4788 or electronically to Steve.Scott@go.doe.gov.

SUPPLEMENTARY INFORMATION: Eligibility is restricted to colleges and universities with a primary campus located in the Denver, Colorado, metropolitan area. The metropolitan area includes only the following Colorado counties: Denver, Jefferson, Arapahoe, Douglas, Adams, and Boulder. Institutions located outside of these Colorado counties are not eligible to apply under this Solicitation.

A limit is imposed for the maximum percentage of DOE funding that can be devoted to Applicant expenses. The proposed Applicant expenses to conduct the complete project must be 15% or less of the total DOE funds obligated in order to be considered for an award under this Solicitation (i.e., 85% or greater of the DOE funding is to be provided by the Applicant to students/teachers participating in the program). The Applicant expenses include all direct and indirect charges incurred to conduct the Statement of Objectives. This 15% Applicant expense limit also applies to any future increments of DOE funding that may be obligated to the award during the five-year project period. An Application will not be evaluated if the proposed total Applicant expenses exceed 15% of the DOE funding.

DOE anticipates obligating $180,000 for the first year of the project. The proposed Applicant expenses must be $27,000 or less for this initial period, with $153,000 or more available for direct support of the participants. The total estimated funds anticipated to be available for the five-year project is approximately $950,000, depending on the availability of congressional appropriations.

Issued in Golden, Colorado, on March 12, 2003.
Jerry L. Zimmer,
Director, Office of Acquisition and Financial Assistance.

[FR Doc. 03-7233 Filed 3-25-03; 8:45 am]

BILLING CODE 6450-01-P